DEPARTMENT OF DEFENSE

GENERAL SERVICES ADMINISTRATION

NATIONAL AERONAUTICS AND SPACE ADMINISTRATION

48 CFR Parts 9, 11, 23, 52, and 53

[FAC 2023-05, FAR Case 2022-008, Item III; Docket No. 2022-0008, Sequence No. 1]

RIN 9000-AO45

Federal Acquisition Regulation: Update to ASSIST Database References

AGENCY: Department of Defense (DoD), General Services Administration (GSA), and National Aeronautics and Space Administration (NASA).

ACTION: Final rule.

SUMMARY: DoD, GSA, and NASA are issuing a final rule amending the Federal Acquisition Regulation (FAR) to update contact information, web addresses, and office titles associated with the DoD Acquisition Streamlining and Standardization Information System and clarify the authoritative source for a form.

DATES: Effective September 7, 2023.

FOR FURTHER INFORMATION CONTACT: Ms. Carrie Moore, Procurement Analyst, at 571-300-5917 or by email at carrie.moore@gsa.gov, for clarification of content. For information pertaining to status or publication schedules, contact the Regulatory Secretariat Division at 202-501-4755 or GSARegSec@gsa.gov. Please cite FAC 2023-05, FAR Case 2022-008.

SUPPLEMENTARY INFORMATION:

I. Background

DoD, GSA, and NASA are amending the FAR to update the contact information, web addresses, and office titles necessary to obtain Federal and Defense specifications and standards from the DoD Acquisition Streamlining and Standardization Information System (ASSIST) website or, for Defense documents not available in ASSIST, the Defense Standardization Program Office. This final rule also adds a reference in part 53, Forms, to the American National Standards Institute (ANSI) Z39.18, Scientific and Technical Reports—Preparation, Presentation, and Preservation, with the prescription for the Standard Form 298, Report Documentation Page.

DoD, GSA, and NASA published a final rule at 64 FR 72446, on December 27, 1999, to provide guidance to offerors on how to obtain Defense specifications and standards formerly listed in the DoD Index of Specifications and Standards (DoDISS) from the ASSIST database or from the DoD Single Stock Point (DoDSSP). DoD, GSA, and NASA published additional revisions to this guidance at 71 FR 227, on January 3, 2006, which replaced references to DoDISS with ASSIST and made several updates associated with obtaining DoD specifications and standards via internet, phone, and fax.

This final rule updates the web address where offerors may download unclassified DoD specifications and standards from the ASSIST website, as well as the program office name and the contact information where offerors can obtain Defense specifications and standards that are not available from the ASSIST website. The rule also removes obsolete guidance for ordering specifications, standards, and/or product descriptions by mail or in person via a physical address, fax, or phone, as these methods of contact were replaced by a more immediate method of access via the ASSIST database. Conforming changes are made in the FAR provisions at 52.211-1, Availability of Specifications Listed in the GSA Index of Federal Specifications, Standards and Commercial Item Descriptions, FPMR Part 101-29; 52.211-2, Availability of Specifications, Standards, and Data Item Descriptions Listed in the Acquisition Streamlining and Standardization Information System (ASSIST); and 52.212-1, Instructions to Offerors—Commercial Products and Commercial Services.

Additionally, this rule adds a reference to ANSI Standard Z39.18 within the prescription for form SF 298 in part 53 to provide the source document that requires the use of the form.

II. Publication of This Final Rule for Public Comment Is Not Required by Statute

The statute that applies to the publication of the FAR is 41 U.S.C. 1707. Subsection (a)(1) of 41 U.S.C. 1707 requires that a procurement policy, regulation, procedure, or form (including an amendment or modification thereof) must be published for public comment if it relates to the expenditure of appropriated funds and has either a significant effect beyond the internal operating procedures of the agency issuing the policy, regulation, procedure, or form, or has a significant cost or administrative impact on contractors or offerors. This final rule is not required to be published for public comment because this rule only: updates the obsolete contact information and methods for obtaining Defense specifications and standards and Federal specifications, standards, and product descriptions; and identifies the source document that requires the use of a standard form identified in the FAR. This rule does not change the policy regarding or necessity for obtaining such documents or using the form.

III. Applicability to Contracts at or Below the Simplified Acquisition Threshold (SAT) and for Commercial Products, Including Commercially Available Off-the-Shelf (COTS) Items, and for Commercial Services

This rule does not create any new solicitation provisions or contract clauses. This rule does amend the provisions at FAR 52.211-1, 52.211-2, and 52.212-1 to incorporate the updated directions to obtain Federal and DoD documents, but does not impose any new requirements on contracts at or below the SAT, for commercial products, including COTS items, or for commercial services. The provision 52.212-1 continues to apply to acquisitions at or below the SAT and to acquisitions for commercial products, including COTS items, or for commercial services; while the provisions 52.211-1 and 52.211-2 continue to apply to acquisitions at or below the SAT, and not apply to acquisitions for commercial products, including COTS items, or for commercial services.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993.

V. Congressional Review Act

The Congressional Review Act (5 U.S.C. 801-808) requires interim and final rules to be submitted to Congress before the rule takes effect. The Office of Information and Regulatory Affairs (OIRA) in the Office of Management and Budget has determined that this is not a major rule under 5 U.S.C. 804.

VI. Regulatory Flexibility Act

Because a notice of proposed rulemaking and an opportunity for public comment are not required to be given for this rule under 41 U.S.C. 1707(a)(1) (see section II. of this preamble), the analytical requirements of the Regulatory Flexibility Act (5 U.S.C. 601-612) are not applicable. Accordingly, no regulatory flexibility analysis is required, and none has been prepared.

VII. Paperwork Reduction Act

This rule does not contain any information collection requirements that require the approval of the Office of Management and Budget under the Paperwork Reduction Act (44 U.S.C. 3501-3521).

List of Subjects in 48 CFR Parts 9, 11, 23, 52, and 53

Government procurement.

William F. Clark,
Director, Office of Government-wide Acquisition Policy, Office of Acquisition Policy, Office of Government-wide Policy.

Therefore, DoD, GSA, and NASA amend 48 CFR parts 9, 11, 23, 52, and 53 as set forth below:

1. The authority citation for 48 CFR parts 9, 11, 23, 52, and 53 continues to read as follows:

Authority: 40 U.S.C. 121(c); 10 U.S.C. chapter 4 and 10 U.S.C. chapter 137 legacy provisions (see 10 U.S.C. 3016); and 51 U.S.C. 20113.

PART 9—CONTRACTOR QUALIFICATIONS

2. Amend section 9.203 by revising paragraphs (b), (c)(2), and (d) to read as follows:

9.203 QPL's, QML's, and QBL's.

* * * * *

(b) Specifications requiring a qualified product are included—

(1) In the GSA Index of Federal Specifications, Standards and Commercial Item Descriptions; and

(2) On the Department of Defense Acquisition Streamlining and Standardization Information System (ASSIST) website at https://assist.dla.mil.

(c) * * *

(2) Department of Defense Manual 4120.24, Defense Standardization Program (DSP) Procedures, (www.esd.whs.mil/Directives/Issuances/dodm) as amended by Military Standards 961 and 962 (https://assist.dla.mil).

(d) The publications in paragraphs (b)(1) and (c)(1) of this section may be obtained from the address in 11.201(d)(1).

PART 11—DESCRIBING AGENCY NEEDS

11.102 [Amended]

3. Amend section 11.102 by—

a. Removing from the first sentence “DoD 4120.24-M, Defense Standardization Program Policies and Procedures” and adding “DoD Manual 4120.24, Defense Standardization Program (DSP) Procedures” in its place; and

b. Removing from the third sentence “DoD 4120.24-M” and “see 11.201(d)(2) or (3)” and adding “DoD Manual 4120.24” and “https://www.esd.whs.mil/Directives/Issuances/dodm or see 11.201(d)(2) or (3)” in their places, respectively.

4. Amend section 11.201 by—

a. Removing from paragraph (a) introductory text “the DoD Acquisition Streamlining and Standardization Information System (ASSIST), or other” and adding “available on the DoD Acquisition Streamlining and Standardization Information System (ASSIST) website, or listed in other” in its place;

b. Revising paragraphs (d)(1) through (3); and

c. Removing from paragraph (e) “DoDSSP” and adding “the Defense Standardization Program Office” in its place.

The revisions read as follows:

11.201 Identification and availability of specifications.

* * * * *

(d) (1) The GSA Index of Federal Specifications, Standards and Commercial Item Descriptions, FPMR Part 101-29, may be viewed at the ASSIST website at https://assist.dla.mil.

(2) Most unclassified Defense specifications and standards may be downloaded from the ASSIST website at https://assist.dla.mil.

(3) Defense documents not available from the ASSIST website may be ordered from the Defense Standardization Program Office by—

(i) Using the ASSIST feedback module at https://assist.dla.mil/feedback; or

(ii) Contacting the Defense Standardization Program Office by telephone at 571-767-6888 or email at assisthelp@dla.mil.

* * * * *

11.202 [Amended]

5. Amend section 11.202 by—

a. Removing from paragraph (a) “listed in the DoDISS” and adding “available at the ASSIST website” in its place; and

b. Removing from paragraph (b) “DoD 4120.24-M, Defense Standardization Program Policies and Procedures” and adding “DoD Manual 4120.24, Defense Standardization Program (DSP) Procedures” in its place.

6. Amend section 11.204 by revising the section heading and paragraph (b) to read as follows:

11.204 Solicitation provisions.

* * * * *

(b) The contracting officer shall insert the provision at 52.211-2, Availability of Defense Specifications, Standards, and Data Item Descriptions in the Acquisition Streamlining and Standardization Information System (ASSIST) website, in solicitations that cite specifications available in ASSIST that are not furnished with the solicitation.

* * * * *

PART 23—ENVIRONMENT, ENERGY AND WATER EFFICIENCY, RENEWABLE ENERGY TECHNOLOGIES, OCCUPATIONAL SAFETY, AND DRUG-FREE WORKPLACE

23.704 [Amended]

7. Amend section 23.704 by removing from paragraph (b)(1)(ii) “Pub. L.” and “(see 11.102)(c))” and adding “Public Law” and “(see 11.101(b))” in their places, respectively.

PART 52—SOLICITATION PROVISIONS AND CONTRACT CLAUSES

8. Revise section 52.211-1 to read as follows:

52.211-1 Availability of Specifications Listed in the GSA Index of Federal Specifications, Standards and Commercial Item Descriptions, FPMR Part 101-29.

As prescribed in 11.204(a), insert the following provision:

Availability of Specifications Listed in the GSA Index of Federal Specifications, Standards and Commercial Item Descriptions, FPMR Part 101-29 (Sep 2023)

(a) The GSA Index of Federal Specifications, Standards and Commercial Item Descriptions, FPMR Part 101-29, and copies of Federal specifications, standards, and product descriptions can be downloaded from the ASSIST website at https://assist.dla.mil.

(b) If the General Services Administration, Department of Agriculture, or Department of Veterans Affairs issued this solicitation, a copy of specifications, standards, and commercial item descriptions cited in this solicitation may be obtained from the ASSIST website identified in paragraph (a) of this provision.

(End of provision)

9. Revise section 52.211-2 heading and text to read as follows:

52.211-2 Availability of Defense Specifications, Standards, and Data Item Descriptions in the Acquisition Streamlining and Standardization Information System (ASSIST) website.

As prescribed in 11.204(b), insert the following provision:

Availability of Defense Specifications, Standards, and Data Item Descriptions in the Acquisition Streamlining and Standardization Information System (ASSIST) Website (Sep 2023)

(a) Most unclassified Defense specifications and standards may be downloaded from the ASSIST website at https://assist.dla.mil.

(b) Defense documents not available from ASSIST may be requested from the Defense Standardization Program Office by—

(1) Using the ASSIST feedback module (https://assist.dla.mil/feedback); or

(2) Contacting the Defense Standardization Program Office by telephone at 571-767-6888 or email at assisthelp@dla.mil.

(End of provision)

10. Amend section 52.212-1 by revising the date of the provision and paragraphs (i)(1), (2), and (3) to read as follows:

52.212-1 Instructions to Offerors—Commercial Products and Commercial Services.

* * * * *

Instructions to Offerors—Commercial Products and Commercial Services (Sep 2023)

* * * * *

(i) * * *

(1)(i) The GSA Index of Federal Specifications, Standards and Commercial Item Descriptions, FPMR Part 101-29, and copies of Federal specifications, standards, and product descriptions can be downloaded from the ASSIST website at https://assist.dla.mil.

(ii) If the General Services Administration, Department of Agriculture, or Department of Veterans Affairs issued this solicitation, a copy of specifications, standards, and commercial item descriptions cited in this solicitation may be obtained from the address in paragraph (i)(1)(i) of this provision.

(2) Most unclassified Defense specifications and standards may be downloaded from the ASSIST website at https://assist.dla.mil.

(3) Defense documents not available from the ASSIST website may be requested from the Defense Standardization Program Office by—

(i) Using the ASSIST feedback module (https://assist.dla.mil/feedback); or

(ii) Contacting the Defense Standardization Program Office by telephone at 571-767-6688 or email at assisthelp@dla.mil.

* * * * *

PART 53—FORMS

53.235 [Amended]

11. Amend section 53.235 by removing “35.010” and adding “35.010 and ANSI Standard Z39.18” in its place.

[FR Doc. 2023-16660 Filed 8-7-23; 8:45 am]

BILLING CODE 6820-EP-P